COMMISSION ON CIVIL RIGHTS

Agenda and Notice of Public Meeting of the Arkansas Advisory Committee

The original notice contains an error, the meeting location has changed. The meeting will not be held at the University of Little Rock Willliam H. Bowen School of Law Auditorium, 1201 McMath Avenue, Little Rock, AR 72202, the new meeting location will be at the Holiday Inn Presidential, 600 Interstate 30, Bush/Reagan Room, Little Rock, AR 72202.

Dated in Washington, DC, July 27, 2012.
Peter Minarik,
Acting Chief, Regional Programs Coordination Unit.

[FR Doc. 2012-18756 Filed 7-31-12; 8:45 am]

BILLING CODE 6335-01-P